DEPARTMENT OF AGRICULTURE

Animal and Plant Health Inspection Service

[Docket No. APHIS-2016-0014]

Notice of Request for Extension of Approval of an Information Collection; Horse Protection Regulations

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the Horse Protection Program.

DATES: We will consider all comments that we receive on or before April 29, 2016.

ADDRESSES: You may submit comments by either of the following methods:

• Federal eRulemaking Portal: Go to http://www.regulations.gov/#!docketDetail;D=APHIS-2016-0014.

• Postal Mail/Commercial Delivery: Send your comment to Docket No. APHIS-2016-0014, Regulatory Analysis and Development, PPD, APHIS, Station 3A-03.8, 4700 River Road Unit 118, Riverdale, MD 20737-1238.

Supporting documents and any comments we receive on this docket may be viewed at http://www.regulations.gov/#!docketDetail;D=APHIS-2016-0014 or in our reading room, which is located in Room 1141 of the USDA South Building, 14th Street and Independence Avenue SW., Washington, DC. Normal reading room hours are 8 a.m. to 4:30 p.m., Monday through Friday, except holidays. To be sure someone is there to help you, please call (202) 7797039 before coming.

FOR FURTHER INFORMATION CONTACT: For information on regulations for the Horse Protection Program, contact Dr. Rachel Cezar, Senior Staff Veterinarian, Animal Care, APHIS, 4700 River Road Unit 84, Riverdale, MD 20737; (301) 851-3746. For copies of more detailed information on the information collection, contact Ms. Kimberly Hardy, APHIS' Information Collection Coordinator, at (301) 851-2727.

SUPPLEMENTARY INFORMATION: Title: Horse Protection Regulations.

OMB Control Number: 0579-0056.

Type of Request: Extension of approval of an information collection.

Abstract: In 1970, Congress passed the Horse Protection Act (15 U.S.C. 1821 et seq.), referred to below as the Act, that prohibits the showing, sale, auction, exhibition, or transport of horses subjected to a cruel and inhumane practice referred to as “soring.” This practice causes a horse to suffer pain in any of its limbs for the purpose of affecting the horse's performance in competition. All breeds of horses are covered under the Act, although enforcement emphasis has historically been placed on Tennessee Walking horses and other gaited breeds due to the prevalence of soring documented in that industry.

To carry out the Act, the Animal and Plant Health Inspection Service (APHIS) of the U.S. Department of Agriculture (USDA) administers and enforces regulations at 9 CFR part 11. The regulations prohibit devices and methods that might sore horses. They also contain provisions under which show management may, to avoid liability for any sore horses that are shown, hire private individuals trained to conduct preshow inspections. These individuals are referred to as designated qualified persons (DQPs). DQPs must be trained and licensed under USDA-certified and monitored programs that are sponsored by horse industry organizations (HIOs).

Enforcement of the Act and its regulations relies on horse inspections conducted by APHIS veterinarians and by DQPs. To ensure that DQP enforcement and USDA-certified DQP programs are effective, APHIS requires DQPs, HIOs, and horse show management to maintain or submit to APHIS records related to these inspections, their DQP programs, and the horse events. No official government form is necessary for the reporting and recordkeeping required.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.6282 hours per response.

Respondents: DQPs, HIOs, horse industry organizations, and horse show management.

Estimated annual number of respondents: 1,510.

Estimated annual number of responses per respondent: 2.39.

Estimated annual number of responses: 3,610.

Estimated total annual burden on respondents: 2,268 hours. (Due to averaging, the total annual burden hours may not equal the product of the annual number of responses multiplied by the reporting burden per response.)

All responses to this notice will be summarized and included in the request for OMB approval. All comments will also become a matter of public record.

Done in Washington, DC, this 24th day of February 2016.
Kevin Shea,
Administrator, Animal and Plant Health Inspection Service.

[FR Doc. 2016-04377 Filed 2-26-16; 8:45 am]

BILLING CODE 3410-34-P